DEPARTMENT OF THE INTERIOR

Bureau of Land Management

[LLWYR01000 L14400000.ER0000 17X; WYW-165353]

Notice of Intent To Prepare an Environmental Impact Statement for the Alkali Creek Reservoir Project, Big Horn County, Wyoming

AGENCY: Bureau of Land Management, Interior.

ACTION: Notice of intent.

SUMMARY: Pursuant to the National Environmental Policy Act of 1969, as amended (NEPA), and the Federal Land Policy and Management Act of 1976, as amended (FLPMA), the Bureau of Land Management (BLM), through the Worland Field Office, Worland, Wyoming, intends to prepare an Environmental Impact Statement (EIS) for the proposed Alkali Creek Reservoir Project (Project). The BLM, through this Notice, is announcing the beginning of the scoping process to solicit public comments and identify issues.

DATES: Comments may be submitted in writing until November 13, 2017. In order to be included in the analysis, all comments must be received prior to the close of the 30-day scoping period or 15 days after the last public meeting, whichever is later. The BLM will provide additional opportunities for public participation, as appropriate. The dates and locations of any scoping meetings will be announced at least 15 days in advance through the local news media, newspapers, and the BLM ePlanning Web site at: http://rebrand.ly/AlkaliCreekReservoirEIS.

ADDRESSES: You may submit written comments by any of the following methods:

• Email: BLM_WY_AlkaliCreekReservoirEIS@blm.gov.

• Fax: 307-347-5128.

• Mail: NEPA Coordinator, BLM Worland Field Office, 101 S 23rd Street, Worland, Wyoming 82401.

Documents pertinent to this proposal are available for public review at the BLM Worland Field Office and on the BLM ePlanning Web site at: http://rebrand.ly/AlkaliCreekReservoirEIS.

FOR FURTHER INFORMATION CONTACT: Holly Elliott, Planning & Environmental Coordinator, telephone: 307-347-5100; address: 101 S 23rd Street, Worland, Wyoming 82401; email: helliott@blm.gov. Persons who use a telecommunications device for the deaf (TDD) may call the Federal Relay Service (FRS) at 1-800-877-8339 to contact Mrs. Elliott during normal business hours. The FRS is available 24 hours a day, 7 days a week, to leave a message or question with the above individual. You will receive a reply during normal business hours. You may call either of these numbers to have your name added to the project mailing list.

SUPPLEMENTARY INFORMATION: This Notice initiates the public scoping process for the EIS. The BLM intends to prepare an EIS to support the decision making for the proposed Project and conduct a public scoping period to seek input on the preliminary issues identified regarding this proposal. The proposed Project is located in the Sixth Principal Meridian, Wyoming.

T. 49 N., R. 90 W.,

Sec. 3, lot 5;

Sec. 4, lot 15;

tracts 39, 40, 41, 42E, 42F, 76, 91.

T. 50 N., R. 89 W.,

tracts 37, 40, 42, 43.

T. 50 N., R. 90 W.,

sec. 26, NW¼SW¼;

Sec. 27, lots 1, 4 thru 8, and NE1/4SW¼;

Sec. 33, lot 1, and NE¼SE¼;

Sec. 34, NW¼NW¼;

Sec. 34, lots 1 thru 9;

Sec. 35, lots 5, 6, and SW¼NW¼;

tracts 37, 39, 40, 41, 42A thru 42D, 43A thru 43D.

The areas described, including both Federal and nonpublic lands, aggregate 640 acres.

The proposed action may require an amendment to the Worland Field Office Resource Management Plan (RMP), approved September 2015.

By this Notice, the BLM is complying with requirements in 43 CFR 1610.2(c)to notify the public of potential amendments to land use plans. If a land use plan amendment is necessary, the BLM will integrate the land use planning process with the NEPA process for this project.

The Wyoming Water Development Office (WWDO) proposes to fund and construct a reservoir near Hyattville, Wyoming. The proposed construction would create a 294-acre reservoir on Alkali Creek. The reservoir would impound approximately 7,994 acre-feet of water under normal conditions and 9,872 acre-feet when under flood conditions. The reservoir would provide late-season irrigation water for portions of the Nowood River Watershed. The irrigation pool would be available either directly or through exchange for irrigation water.

The proposed Project construction would disturb approximately 78 acres in the immediate vicinity of the proposed project location, which includes the embankment, spillways, Anita Ditch and Anita Supplemental Ditch improvements, access road, and parking area.

Preliminary issues include: Impacts to wetlands and cultural sites (properties), visual resources, Greater sage-grouse habitat, public health and safety, recreation, ground and surface waters, mineral development, and wildlife habitat.

The BLM seeks resource information and data for public land values (e.g., air quality, cultural and historic resources, fire/fuels, fisheries, forestry, lands and realty, non-energy minerals and geology, oil and gas, paleontology, rangeland management, recreation, soil, water, and wildlife) in the project area. Preliminary planning criteria for the potential RMP amendment include: The amendment will recognize valid existing rights; planning decisions will cover public land and split-estate lands that the BLM administers; the planning process will be collaborative and multi-jurisdictional in nature; the environmental analysis will consider a reasonable range of alternatives; the BLM will consider current and potential future uses of public lands through the development of reasonably foreseeable future development and activity scenarios based on technical analysis of historical, existing, and projected levels of use; and decisions in the amendment will comply as appropriate with all applicable laws, regulations, policy, and guidance.

You may submit comments on issues and planning criteria in writing to the BLM at any public scoping meeting, or you may submit them to the BLM using one of the methods listed in the ADDRESSES section above. To be most helpful, you should submit comments by the close of the 30-day scoping period or within 15 days after the last public meeting, whichever is later.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will evaluate any authorizations and actions proposed in the EIS to determine if they conform to the decisions in the current and proposed land use plans. Any proposed actions that would change the scope of resource uses, terms and conditions, and decisions of these plans may require an amendment of an affected plan.

To provide the public with an opportunity to review the proposal and associated information, as well as any proposed plan amendments, the BLM will host meetings before November 13, 2017. The BLM will notify the public of meetings and any other opportunities for the public to be involved in the process for this proposal at least 15 days prior to the event. Meeting dates, locations and times will be announced by a news release to the media, individual emailings, and postings on the project Web site.

The purpose of the public scoping process is to determine relevant issues that will influence the scope of the environmental analysis, including alternatives, and guide the process for developing the EIS.

Before including your address, phone number, email address or other personal identifying information in your comment, you should be aware that your entire comment—including your personal identifying information—may be made publicly available at any time. While you may ask us in your comment to withhold your personal identifying information from public review, we cannot guarantee that we will be able to do so.

Authority: 40 CFR 1501.7, 43 CFR 1610.2.

Mary Jo Rugwell,
BLM Wyoming State Director.

[FR Doc. 2017-21965 Filed 10-10-17; 8:45 am]

BILLING CODE 4310-22-P